DEPARTMENT OF COMMERCE

International Trade Administration

[A-570-848]

Freshwater Crawfish Tail Meat From the People's Republic of China: Notice of Initiation of Antidumping Duty New-Shipper Review

AGENCY: Import Administration, International Trade Administration, Department of Commerce.

DATES: Effective Date: October 30, 2009.

SUMMARY: On September 15, 2009, the Department of Commerce (the Department) received a request to conduct a new-shipper review of the antidumping duty order on freshwater crawfish tail meat from the People's Republic of China (PRC). In accordance with section 751(a)(2)(B) of the Tariff Act of 1930, as amended (the Act), and 19 CFR 351.214(d), we are initiating an antidumping duty new-shipper review.

FOR FURTHER INFORMATION CONTACT: Hermes Pinilla or Minoo Hatten at (202) 482-3477 and (202) 482-1690, respectively, Office 5, AD/CVD Operations, Import Administration, International Trade Administration, U.S. Department of Commerce, 14th Street and Constitution Avenue, NW., Washington, DC 20230.

SUPPLEMENTARY INFORMATION:

Background

The Department published the antidumping duty order on freshwater crawfish tail meat from the PRC in the Federal Register on September 15, 1997. See Notice of Amendment to Final Determination of Sales at Less than Fair Value and Antidumping Duty Order: Freshwater Crawfish Tail Meat from the People's Republic of China, 62 FR 48218 (September 15, 1997). On September 15, 2009, we received a timely request for a new-shipper review of the antidumping duty order on freshwater crawfish tail meat from the PRC from Nanjing Gemsen International Co., Ltd. (Nanjing Gemsen). At our request, on October 13, 2009, Nanjing Gemsen submitted additional information to supplement its request for a new-shipper review. See memorandum to file dated October 13, 2009. Nanjing Gemsen certified that it is the exporter of the subject merchandise upon which the request for a new-shipper review is based.

Pursuant to section 751(a)(2)(B)(i)(I) of the Act and 19 CFR 351.214(b)(2)(ii)(A), Nanjing Gemsen certified that it did not export freshwater crawfish tail meat to the United States during the period of investigation (POI). Further, pursuant to 19 CFR 351.214(b)(2)(ii)(B), the producer, Henan Baoshu Aquatic Products Co., Ltd. (Henan Baoshu), certified that it did not export subject merchandise to the United States during the POI. In addition, pursuant to section 751(a)(2)(B)(i)(II) of the Act and 19 CFR 351.214(b)(2)(iii)(A), Nanjing Gemsen certified that, since the initiation of the investigation, it has never been affiliated with any PRC exporter or producer who exported freshwater crawfish tail meat to the United States during the POI, including those not individually examined during the investigation. As required by 19 CFR 351.214(b)(2)(iii)(B), Nanjing Gemsen also certified that its export activities are not controlled by the central government of the PRC.

In addition to the certifications described above, pursuant to 19 CFR 351.214(b)(2)(iv), Nanjing Gemsen submitted documentation establishing the date on which it first shipped freshwater crawfish tail meat for export to the United States and the date on which the freshwater crawfish tail meat was first entered, or withdrawn from warehouse, for consumption, the volume of its first shipment, and the date of its first sale to an unaffiliated customer in the United States.

The Department conducted a query of the U.S. Customs and Border Protection (CBP) database to confirm that Nanjing Gemsen's shipment of subject merchandise had entered the United States for consumption and had been suspended for antidumping duties. The Department also corroborated Nanjing Gemsen's assertion that it made subsequent shipments to the United States by reviewing CBP data.

We did not receive comments from Crawfish Processors Alliance (the petitioner) on Nanjing Gemsen's request for a new-shipper review.

Initiation of New-Shipper Review

Pursuant to section 751(a)(2)(B) of the Act and 19 CFR 351.214(d)(1), the Department finds that Nanjing Gemsen's request meets the threshold requirements for initiation of a new-shipper review for the shipment of freshwater crawfish tail meat from the PRC. See Memorandum to the File entitled: “New-Shipper Review Initiation Checklist” dated October 26, 2009.

The period of review for this new-shipper review is September 1, 2008, through August 31, 2009. See 19 CFR 351.214(g)(1)(i)(A). The Department intends to issue the preliminary results of this review no later than 180 days from the date of initiation and final results of this review no later than 270 days from the date of initiation. See section 751(a)(2)(B)(iv) of the Act.

Interested parties requiring access to proprietary information in this new-shipper review should submit applications for disclosure under administrative protective order in accordance with 19 CFR 351.305 and 351.306.

Because Nanjing Gemsen certified that it exported subject merchandise produced by Henan Baoshu, the sales of which form the basis for the request for a new-shipper review, we will instruct CBP to allow, at the option of the importer until the completion of the review, the posting of a bond or security in lieu of a cash deposit for each entry of the subject merchandise produced by Henan Baoshu and exported by Nanjing Gemsen in accordance with section 751(a)(2)(B)(iii) of the Act and 19 CFR 351.214(e). The bonding privilege will apply only to subject merchandise produced by Henan Baoshu and exported by Nanjing Gemsen.

This initiation and notice are published in accordance with section 751(a)(2)(B) of the Act and 19 CFR 351.214 and 351.221(c)(1)(i).

Dated: October 26, 2009.
John M. Andersen,
Acting Deputy Assistant Secretary for Antidumping and Countervailing Duty Operations.

[FR Doc. E9-26228 Filed 10-29-09; 8:45 am]

BILLING CODE 3510-DS-P